DEPARTMENT OF COMMERCE

International Trade Administration

[A-570-168]

Certain Alkyl Phosphate Esters From the People's Republic of China: Preliminary Affirmative Determination of Sales at Less Than Fair Value, Postponement of Final Determination and Extension of Provisional Measures

AGENCY: Enforcement and Compliance, International Trade Administration, Department of Commerce.

SUMMARY: The U.S. Department of Commerce (Commerce) preliminarily determines that certain alkyl phosphate esters (alkyl phosphate esters) from the People's Republic of China (China) are being, or are likely to be, sold in the United States at less than fair value (LTFV). The period of investigation (POI) is October 1, 2023, through March 31, 2024. Interested parties are invited to comment on this preliminary determination.

DATES: Applicable December 4, 2024.

FOR FURTHER INFORMATION CONTACT: Robert Palmer or Dennis McClure, AD/CVD Operations, Office VIII, Enforcement and Compliance, International Trade Administration, U.S. Department of Commerce, 1401 Constitution Avenue NW, Washington, DC 20230; telephone: (202) 482-9068 or (202) 482-5973, respectively.

SUPPLEMENTARY INFORMATION:

Background

This preliminary determination is made in accordance with section 733(b) of the Tariff Act of 1930, as amended (the Act). Commerce published the notice of initiation of this investigation on May 20, 2024.¹ On August 8, 2024, Commerce tolled certain deadlines in this investigation by seven days.² On September 17, 2024, Commerce postponed the preliminary determination of this investigation and the revised deadline is now November 26, 2024.³

¹ See Certain Alkyl Phosphate Esters from the People's Republic of China: Initiation of Less-Than-Fair-Value Investigation, 89 FR 43801 (May 20, 2024) (Initiation Notice).

² See Memorandum, “Tolling of Deadlines for Antidumping and Countervailing Duty Proceedings,” dated July 22, 2024.

³ See Certain Alkyl Phosphate Esters from the People's Republic of China: Postponement of Preliminary Determinations of Less-Than-Fair-Value Investigations, 89 FR 76087 (September 17, 2024).

For a complete description of the events that followed the initiation of this investigation, see the Preliminary Decision Memorandum.⁴ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁴ See Memorandum, “Decision Memorandum for the Preliminary Affirmative Determination in the Less-Than-Fair-Value Investigation of Certain Alkyl Phosphate Esters from the People's Republic of China,” dated concurrently with, and hereby adopted by, this notice (Preliminary Decision Memorandum).

Scope of the Investigation

The product covered by this investigation is alkyl phosphate esters from China. For a complete description of the scope of this investigation, see Appendix I.

Scope Comments

In accordance with the Preamble to Commerce's regulations,⁵ the Initiation Notice set aside a period of time for parties to raise issues regarding product coverage (i.e., scope).⁶ No interested party commented on the scope of the investigation as it appeared in the Initiation Notice.⁷ Commerce is not preliminarily modifying the scope language as it appeared in the Initiation Notice. See the scope in Appendix I to this notice.

⁵ See Antidumping Duties; Countervailing Duties, Final Rule, 62 FR 27296, 27323 (May 19, 1997) (Preamble).

⁶ See Initiation Notice.

⁷ See Shanghai Yongxiangshun International Trade Co., Ltd.'s Letter, “Scope of Order Comments,” dated May 30, 2024. Although Shanghai Yongxiangshun International Trade Co., Ltd. (Shanghai Yongxiangshun) submitted a letter entitled, “Scope Order Comments,” the letter did not include comments opposing the scope as published in the Initiation Notice.

Methodology

Commerce is conducting this investigation in accordance with section 731 of the Act. Commerce has calculated export prices in accordance with section 772(a) of the Act and constructed export prices in accordance with section 772(b) of the Act. Because China is a non-market economy (NME), within the meaning of section 771(18) of the Act, Commerce has calculated normal value (NV) in accordance with section 773(c) of the Act. Furthermore, pursuant to sections 776(a) and (b) of the Act, Commerce preliminarily has relied upon facts otherwise available, with adverse inferences, for (1) Icool Chemical Co., Ltd., (2) Isochem Australia Pty Ltd., (3) Jiangsu Victory Chemical Co., Ltd., (4) Shanghai Chenhua International Trade Co., Ltd., (5) Taian Tayong Biotechnology Co., Ltd., (6) Unibrom Corp., (7) Unibrom Pte. Ltd., (8) Xing Fa (Hongkong) Imp. & Exp. Limited, and (9) Yangzhou Chenhua New Material Co., Ltd. For a full description of the methodology underlying Commerce's preliminary determination, see the Preliminary Decision Memorandum.

Combination Rates

In the Initiation Notice,⁸ Commerce stated that it would calculate producer/exporter combination rates for the respondents that are eligible for a separate rate in this investigation. Policy Bulletin 05.1 describes this practice.⁹

⁸ See Initiation Notice, 89 FR 43805.

⁹ See Enforcement and Compliance's Policy Bulletin No. 05.1, regarding, “Separate-Rates Practice and Application of Combination Rates in Antidumping Investigations involving Non-Market Economy Countries,” (April 5, 2005) (Policy Bulletin 05.1), available on Commerce's website at https://enforcement.trade.gov/policy/bull05-1.pdf.

Separate Rates

We have preliminarily granted a separate rate to certain separate rate respondents that we did not select for individual examination.¹⁰ In calculating the rate for non-individually examined separate rate respondents in an NME LTFV investigation, Commerce normally looks to section 735(c)(5)(A) of the Act, which pertains to the calculation of the all-others rate in a market economy LTFV investigation, for guidance. Pursuant to section 735(c)(5)(A) of the Act, normally this rate shall be an amount equal to the weighted-average of the estimated weighted-average dumping margins established for those companies individually examined, excluding zero and de minimis dumping margins, and any dumping margins based entirely under section 776 of the Act. Commerce calculated individual estimated weighted-average dumping margins for Anhui RunYue Technology Co., Ltd. (Anhui RunYue) and Zhejiang Wansheng Co., Ltd. (Zhejiang Wansheng) that are not zero, de minimis, or based entirely on facts otherwise available. Thus, the weighted-average dumping margins calculated for Anhui RunYue and Zhejiang Wansheng are the basis to determine the weighted-average dumping margin for the non-examined, separate rate companies in this investigation.¹¹ See the table below in the “Preliminary Determination” section of this notice.

¹⁰ See the Preliminary Decision memorandum for additional details.

¹¹ See Memorandum, “Calculation of the Dumping Margin for Respondents Not Selected for Individual Examination,” dated November 26, 2024.

Preliminary Determination

Commerce preliminarily determines that the following estimated weighted-average dumping margins exist:

Exporter | Producer | Estimated weighted-average dumping margin (percent) | Cash deposit rate (adjusted for subsidy offsets) (percent)
Anhui RunYue Technology Co., Ltd | Anhui RunYue Technology Co., Ltd | 247.52 | 175.82
Zhejiang Wansheng Co., Ltd | Zhejiang Wansheng Co., Ltd | 164.29 | 141.98
ACETO (SHANGHAI) LTD | Xinji Hongzheng Chemical Co., Ltd | 182.22 | 135.22
Anhui Shengli Import and Export Co., Ltd | Anhui Shengli Pesticide & Chemistry Co., Ltd | 182.22 | 135.22
Anhui Shengli Import and Export Co., Ltd | Ningguo Long Day Chemical Co., Ltd | 182.22 | 135.22
Fujian Wynca Technology Co., Ltd | Fujian Wynca Technology Co., Ltd | 182.22 | 135.22
Fujian Wynca Technology Co., Ltd | Anhui RunYue Technology Co., Ltd | 182.22 | 135.22
Fujian Wynca Technology Co., Ltd | Shandong Yarong Chemical Co., Ltd | 182.22 | 135.22
Shandong Yarong Chemical Co., Ltd | Shandong Yarong Chemical Co., Ltd | 182.22 | 135.22
Shanghai Iroyal Chemical Co., Ltd | Futong Chemical Co., Ltd | 182.22 | 135.22
Shanghai Iroyal Chemical Co., Ltd | Fujian Wynca Technology Co., Ltd | 182.22 | 135.22
Shanghai Iroyal Chemical Co., Ltd | Zhejiang Hong Hao Technology Co., Ltd | 182.22 | 135.22
Shanghai Iroyal Chemical Co., Ltd | Shandong Yarong Chemical Co., Ltd | 182.22 | 135.22
Shanghai Iroyal Chemical Co., Ltd | Xuancheng City Trooyawn Refined Chemical Industry Co., Ltd | 182.22 | 135.22
Shanghai Yongxiangshun International Trade Co., Ltd | Hebei Zhenxing Chemical and Rubber Co., Ltd | 182.22 | 135.22
Xuancheng City Trooyawn Refined Chemical Industry Co., Ltd | Xuancheng City Trooyawn Refined Chemical Industry Co., Ltd | 182.22 | 135.22
Yoke Chemicals and New Materials (Shanghai) Co. Ltd | Jiangsu Yoke Technology Co., Ltd | 182.22 | 135.22
Zhangjiagang Fortune Chemical Co., Ltd | Nantong Jiangshan Agrochemical & Chemicals Limited Liability Co., Ltd | 182.22 | 135.22
Zhangjiagnag Fortune Chemical Co., Ltd | Shandong Yarong Chemical Co., Ltd | 182.22 | 135.22
China Wide-Entity | * 269.60 | 247.29
* This rate is based on facts available with adverse inferences.

Suspension of Liquidation

In accordance with section 733(d)(2) of the Act, Commerce will direct U.S. Customs and Border Protection (CBP) to suspend liquidation of subject merchandise as described in the scope of the investigation section entered, or withdrawn from warehouse, for consumption on or after the date of publication of this notice in the Federal Register, as discussed below. Further, pursuant to section 733(d)(1)(B) of the Act and 19 CFR 351.205(d), Commerce will instruct CBP to require a cash deposit equal to the weighted average amount by which NV exceeds U.S. price, as indicated in the chart above as follows: (1) for the producer/exporter combinations listed in the table above, the cash deposit rate is equal to the estimated weighted-average dumping margin listed for that combination in the table; (2) for all combinations of Chinese producers/exporters of merchandise under consideration that have not established eligibility for their own separate rates, the cash deposit rate will be equal to the estimated weighted-average dumping margin established for the China-wide entity; and (3) for all third-county exporters of merchandise under consideration not listed in the table above, the cash deposit rate is the cash deposit rate applicable to the Chinese producer/exporter combination (or the China-wide entity) that supplied that third-country exporter.

To determine the cash deposit rate, Commerce normally adjusts the estimated weighted-average dumping margin by the amount of domestic subsidy pass-through and export subsidies determined in a companion countervailing duty (CVD) proceeding when CVD provisional measures are in effect. Accordingly, where Commerce has made a preliminary affirmative determination for domestic subsidy pass-through or export subsidies, Commerce has offset the calculated estimated weighted-average dumping margin by the appropriate rate(s). Any such adjusted rates may be found in the chart of estimated weighted-average dumping margins, above.

Should provisional measures in the companion CVD investigation expire prior to the expiration of provisional measures in this LTFV investigation, Commerce will direct CBP to begin collecting cash deposits at a rate equal to the estimated weighted-average dumping margins calculated in this preliminary determination unadjusted for the passed-through domestic subsidies or for export subsidies at the time the CVD provisional measures expire.

These suspension of liquidation instructions will remain in effect until further notice.

Disclosure

Commerce intends to disclose to interested parties the calculations performed in connection with this preliminary determination within five days of its public announcement or, if there is no public announcement, within five days of the date of publication of this notice in the Federal Register, accordance with 19 CFR 351.224(b).

Consistent with 19 CFR 351.224(e), Commerce will analyze and, if appropriate, correct any timely allegations of significant ministerial errors by amending the preliminary determination. However, consistent with 19 CFR 351.224(d), Commerce will not consider incomplete allegations that do not address the significance standard under 19 CFR 351.224(g) following the preliminary determination. Instead, Commerce will address such allegations in the final determination together with issues raised in the case briefs or other written comments.

Verification

As provided in section 782(i)(1) of the Act, Commerce intends to verify information relied upon in making its final determination.

Public Comment

Case briefs or other written comments may be submitted to the Assistant Secretary for Enforcement and Compliance no later than seven days after the date on which the last final verification report is issued in this investigation. A timeline for the submission of case briefs and written comments will be notified to interested parties at a later date. Rebuttal briefs, limited to issues raised in the case briefs, may be filed not later than five days after the date for filing case briefs.¹² Interested parties who submit case briefs or rebuttal briefs in this proceeding must submit: (1) a table of contents listing each issue; and (2) a table of authorities.¹³

¹² See 19 CFR 351.309(d); see also Administrative Protective Order, Service, and Other Procedures in Antidumping and Countervailing Duty Proceedings, 88 FR 67069, 67077 (September 29, 2023) (APO and Service Final Rule).

¹³ See 19 351.309(c)(2) and (d)(2).

As provided under 19 CFR 351.309(c)(2) and (d)(2), in prior proceedings we have encouraged interested parties to provide an executive summary of their brief that should be limited to five pages total, including footnotes. In this investigation, we instead request that interested parties provide at the beginning of their briefs a public, executive summary for each issue raised in their briefs.¹⁴ Further, we request that interested parties limit their executive summary of each issue to no more than 450 words, not including citations. We intend to use the executive summaries as the basis of the comment summaries included in the issues and decision memorandum that will accompany the final determination in this investigation. We request that interested parties include footnotes for relevant citations in the executive summary of each issue. Note that Commerce has amended certain of its requirements pertaining to the service of documents in 19 CFR 351.303(f).¹⁵

¹⁴ We use the term “issue” here to describe an argument that Commerce would normally address in a comment of the Issues and Decision Memorandum.

¹⁵ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants and whether any participant is a foreign national, and a list of the issues to be discussed. If a request for a hearing is made, Commerce intends to hold the hearing at a time and date to be determined. Parties should confirm by telephone the date, time, and location of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. Pursuant to 19 CFR 351.210(e)(2), Commerce requires that requests by respondents for postponement of a final antidumping determination be accompanied by a request for extension of provisional measures from a four-month period to a period not more than six months in duration.

On October 24 and November 1, 2024, Anhui RunYue and ICL-IP America, Inc. (the petitioner) requested that Commerce postpone the final determination and that provisional measures be extended to a period not to exceed six months, respectively.¹⁶ In accordance with section 735(a)(2)(A) of the Act and 19 CFR 351.210(b)(2)(ii), because: (1) the preliminary determination is affirmative; (2) the requesting exporter accounts for a significant proportion of exports of the subject merchandise; and (3) no compelling reasons for denial exist, Commerce is postponing the final determination and extending the provisional measures from a four-month period to a period not greater than six months. Accordingly, Commerce will make its final determination no later than 135 days after the date of publication of this preliminary determination.

¹⁶ See Anhui RunYue's Letter, “Request for Postponement of Final AD Determination,” dated October 24, 2024; see also Petitioner's Letter, “Request to Postpone Final Determination,” dated November 1, 2024.

U.S. International Trade Commission (ITC) Notification

In accordance with section 733(f) of the Act, Commerce will notify the ITC of its preliminary determination of sales at LTFV. If the final determination is affirmative, the ITC will determine before the later of 120 days after the date of this preliminary determination or 45 days after the final determination whether imports of the subject merchandise are materially injuring, or threaten material injury to, the U.S. industry.

Notification to Interested Parties

This determination is issued and published in accordance with sections 733(f) and 777(i)(1) of the Act, and 19 CFR 351.205(c).

Dated: November 26, 2024.
Abdelali Elouaradia,
Deputy Assistant Secretary for Enforcement and Compliance.

Appendix I

Scope of the Investigation

The products covered by this investigation are alkyl phosphate esters, which are halogenated and non-halogenated phosphorus-based esters with a phosphorus content of at least 6.5 percent (per weight) and a viscosity between 1 and 2000 mPa.s (at 20-25 °C).

Merchandise subject to this investigation primarily includes Tris (2-chloroisopropyl) phosphate (TCPP), Tris(1,3-dichloroisopropyl) phosphate (TDCP), and Triethyl Phosphate (TEP).

TCPP is also known as Tris (1-chloro-2-propyl) phosphate, Tris (1-chloropropan-2-yl) phosphate, Tris (monochloroisopropyl) phosphate (TMCP), and Tris (2-chloroisopropyl) phosphate (TCIP). TCPP has the chemical formula C9H18Cl3O4P and the Chemical Abstracts Service (CAS) Nos. 1244733-77-4 and 13674-84-5. It may also be identified as CAS No. 6145-73-9.

TDCP is also known as Tris (1,3-dichloroisopropyl) phosphate, Tris (1,3-dichloro-2-propyl) phosphate, Chlorinated tris, tris {2- chloro-1-(chloromethyl ethyl)} phosphate, TDCPP, and TDCIPP. TDCP has the chemical formula C9H15Cl6O4P and the CAS No. 13674-87-8.

TEP is also known as Phosphoric acid triethyl ester, phosphoric ester, flame retardant TEP, Tris(ethyl) phosphate, Triethoxyphosphine oxide, and Ethyl phosphate (neutral). TEP has the chemical formula (C2H5O)3PO and the CAS No. 78-40-0.

Imported alkyl phosphate esters are not excluded from the scope of this investigation even if the imported alkyl phosphate ester consists of a single isomer or combination of isomers in proportions different from the isomers ordinarily provided in the market.

Also included in this investigation are blends including one or more alkyl phosphate esters, with or without other substances, where the alkyl phosphate esters account for 20 percent or more of the blend by weight.

Alkyl phosphate esters are classified under subheading 2919.90.5050, Harmonized Tariff Schedule of the United States (HTSUS). Imports may also be classified under subheadings 2919.90.5010 and 3824.99.5000, HTSUS. The HTSUS subheadings and CAS registry numbers are provided for convenience and customs purposes. The written description of the scope is dispositive.

Appendix II

List of Topics Discussed in the Preliminary Decision Memorandum

I. Summary

II. Background

III. Period of Investigation

IV. Discussion of the Methodology

V. Adjustment Under Section 777(A)(f) of the Act

VI. Currency Conversion

VII. Recommendation

[FR Doc. 2024-28397 Filed 12-3-24; 8:45 am]

BILLING CODE 3510-DS-P